DEPARTMENT OF THE TREASURY

United States Mint

Establish Price Increases for United States Mint Numismatic Products

AGENCY: United States Mint, Department of the Treasury.

ACTION: Notice.

The United States Mint is announcing new pricing for the United States Mint numismatic products in accordance with the table below:

Product | 2021 Retail price
United States Mint Birth Set (2018, 2020, and 2021) | $25.00
United States Mint Happy Birthday Coin Set (2019, 2020, 2021) | 25.00
2019 United States Mint Uncirculated Coin Set® | 25.25
2019 United States Mint Native American $1 25-Coin Roll (P & D) | 34.50
2019 United States Mint Kennedy Half-Dollar Two-Roll Set (P & D) | 34.50
2019 United States Mint Kennedy Half-Dollar 200-Coin Bag (P & D) | 147.00
2019 United States Mint American InnovationTM $1 25-Coin Roll, Georgia, New Jersey, Pennsylvania, and Delaware (P & D) | 34.50
2019 United States Mint Proof Set® | 32.00
2019 United States Mint American InnovationTM $1 Coin-Bag, Georgia, New Jersey, Pennsylvania, and Delaware (P & D) | 117.50
2019 United States Mint American InnovationTM $1 Reverse Proof Coin, Georgia, New Jersey, Pennsylvania, and Delaware | 11.50
2019 United States Mint American InnovationTM $1 Coin Proof Set | 24.00
2019 United States Mint America the Beautiful Quarters 3-Roll Set-River of No Return Wilderness (P, D, & S) | 49.25
2019 United States Mint America the Beautiful Quarters 40-Coin Roll Set-River of No Return Wilderness (S) | 19.75
2019 United States Mint America the Beautiful Quarters Two-Roll Set-River of No Return Wilderness (P & D) | 34.50
2019 United States Mint America the Beautiful Quarters Proof SetTM | 18.50
United States Mint America the Beautiful Quarters Three-Coin STM-Frank Church River of No Return Wilderness, San Antonio Missions National Historical Park, American Memorial Park, Lowell National Park, Block Island National Wildlife Refuge, Cumberland Island National Seashore, Voyageurs National Park, and Apostles Islands National Lakeshore (2018 and 2019) | 11.50
2019 United States Mint America the Beautiful Quarters Circulating CoinTM Set | 10.00
2019 United States Mint America the Beautiful Quarters 100-Coin Bag, Frank Church River of No Return Wilderness, (P, D, and S) | 36.75
2018 United States Mint American InnovationTM $1 25-Coin Roll (P & D) | 34.50
2018 United States Mint American InnovationTM $1 100 Coin Bag (P & D) | 117.50
2018 United States Mint American InnovationTM $1 Proof Coin | 11.50

FOR FURTHER INFORMATION CONTACT: Angela Hicks, Marketing Specialist, Sales and Marketing; United States Mint; 801 9th Street NW, Washington, DC 20220; or call 202-354-7750.

(Authority: 31 U.S.C. 5111, 5112, 5132 and 9701)

Eric Anderson,
Executive Secretary, United States Mint.

[FR Doc. 2020-28961 Filed 12-30-20; 8:45 am]

BILLING CODE P